DEPARTMENT OF THE INTERIOR

Fish and Wildlife Service

50 CFR Part 17

[Docket No. FWS-R2-ES-2012-0042; FF09E21000 FXES1111090FEDR 223]

RIN 1018-AX13

Endangered and Threatened Wildlife and Plants; Revision of the Critical Habitat Designation for the Jaguar in Compliance With a Court Order; Correction

AGENCY: Fish and Wildlife Service, Interior.

ACTION: Final rule; correction.

SUMMARY: We, the U.S. Fish and Wildlife Service, are correcting an erroneous acreage amount presented twice in the preamble of our July 22, 2021, final rule that was issued to comply with a court order concerning the critical habitat designation for the jaguar (Panthera onca) under the Endangered Species Act of 1973, as amended (Act).

DATES: This correction is effective February 2, 2022.

FOR FURTHER INFORMATION CONTACT: U.S. Fish and Wildlife Service, Attn: Jeff Humphrey, at 9828 North 31st Avenue #C3, Phoenix, AZ 85051; by telephone at 602-242-0210; or by email at incomingazcorr@fws.gov. Persons who use a telecommunications device for the deaf (TDD) may call the Federal Relay Service at 800-877-8339.

SUPPLEMENTARY INFORMATION:

Correction

On July 22, 2021, we published in the Federal Register (86 FR 38570) a final rule that was issued to comply with a court order to vacate Unit 6 and the New Mexico portion of Unit 5 from the March 5, 2014, final rule designating approximately 764,207 acres (309,263 hectares) of land in New Mexico and Arizona as critical habitat for the jaguar under the Act (16 U.S.C. 1531 et seq.). In two places in the preamble of the July 22, 2021, final rule, we erroneously stated that the final rule removes approximately 110,438 acres (44,693 hectares) of land within New Mexico from the designation of critical habitat for the jaguar. This document corrects the preamble to state that the July 22, 2021, final rule removes approximately 59,286 acres (23,993 hectares) of land within New Mexico from the designation of critical habitat for the jaguar. We are not making any corrections to the maps we codified in the July 22, 2021, final rule; they are correct as published (86 FR 38570, July 22, 2021, pp. 86 FR 38571-38572).

Therefore, in the final rule published at 86 FR 38570, in the July 22, 2021, issue of the Federal Register, we make the following corrections to the preamble:

1. On page 38570 in the third column, second line, we remove the words “110,438 acres (44,693 hectares)” and add in their place the words “59,286 acres (23,993 hectares)”.

2. On page 38571 in the first column, in the first sentence under Effects of the Rule, we remove the words “110,438 acres (44,693 hectares)” and add in their place the words “59,286 acres (23,993 hectares)”.

Administrative Procedure

We have determined, pursuant to 5 U.S.C. 553(b)(3)(B), that prior notice and opportunity for public comment are impractical and unnecessary. Public comment could not inform this correction process in any meaningful way. We have further determined that, under 5 U.S.C. 553(d)(3), the agency has good cause to make this rule effective upon publication, as it is important for the proper administration of our programs for our rulemaking documents published in the Federal Register to be complete and accurate.

Authority

The authority for this action is the Endangered Species Act (16 U.S.C. 1531 et seq.)

Martha Williams,
Principal Deputy Director, Exercising the Delegated Authority of the Director, U.S. Fish and Wildlife Service.

[FR Doc. 2022-02054 Filed 2-1-22; 8:45 am]

BILLING CODE 4333-15-P